DEPARTMENT OF VETERANS AFFAIRS

38 CFR Part 9

RIN 2900-AQ53

Servicemembers' Group Life Insurance Traumatic Injury Protection Program Amendments

AGENCY: Department of Veterans Affairs.

ACTION: Supplemental notice of proposed rulemaking.

SUMMARY: On August 19, 2020, the Department of Veterans Affairs (VA) published a notice of proposed rulemaking to amend its regulations that govern the Servicemembers' Group Life Insurance Traumatic Injury Protection (TSGLI) program. This supplemental notice of proposed rulemaking (SNPRM) clarifies that VA's proposed denial of a petition for rulemaking, as set forth in that proposed rulemaking, is a proper subject for the submission of comments and provides a new opportunity for submission of such comments.

DATES: Comments must be received on or before May 24, 2021.

ADDRESSES: Comments may be submitted through www.Regulations.gov or mailed to Department of Veterans Affairs Insurance Center (310/290B), 5000 Wissahickon Avenue, Philadelphia, PA 19144]. Comments should indicate that they are submitted in response to AQ53-Servicemembers' Group Life Insurance Traumatic Injury Protection Program. Comments received will be available at regulations.gov for public viewing, inspection or copies.

FOR FURTHER INFORMATION CONTACT: Paul Weaver, Department of Veterans Affairs Insurance Center (310/290B), 5000 Wissahickon Avenue, Philadelphia, PA 19144, (215) 842-2000, ext. 4263. (This is not a toll-free number.)

SUPPLEMENTARY INFORMATION: On August 19, 2020, VA published a notice of proposed rulemaking to amend VA regulations governing the TSGLI program. 85 FR 50973. That rulemaking also proposed to deny a petition for rulemaking requesting that VA:

1. Amend the definition of “traumatic event” in current § 9.20(b)(1) to include “application of . . . explosive ordnance . . . causing damage to a living being.”

2. Amend the definition of “traumatic injury” in current § 9.20(c)(2)(ii) to include a “physical illness or disease . . . caused by . . . explosive ordnance.”

3. Amend the list of exclusions in current § 9.20(e)(4)(i) to provide that a scheduled loss resulting from a “physical illness or disease caused by explosive ordnance” will not be excluded from TSGLI coverage.

4. Add the following definition of “explosive ordnance” to current § 9.20(e)(6): “all munitions containing explosives, . . . includ[ing], but . . . not limited to, improvised explosive devices (IEDs).”

This SNPRM does not propose any substantive changes to the previously published proposed rule. Rather, through this SNPRM, we simply seek to (1) clarify that VA proposes to deny the petition for rulemaking for the reasons set forth in the preamble to the proposed rulemaking, see 85 FR 50982-83, and (2) provide additional opportunity for public comment on that subject specifically because the August 2020 proposed rule may not have been entirely clear that the issues raised in the petition and the proposed denial thereof were subject to public comment.

VA hereby invites comments on the petition and the proposed denial thereof. Before making a final decision on the petition and the issuance of a final rulemaking, VA will consider all comments received during the comment period ending on October 19, 2020, in response to the August 2020 proposed rule and all comments received in response to this SNPRM by the closing date. If you submitted a comment regarding the petition in response to the August 2020 proposed rule, you do not need to submit the same comment again. This SNPRM does not reopen the other proposals that were contained in the August 2020 proposed rulemaking or request further comments on those proposals.

Paperwork Reduction Act

This proposed rule contains no provisions constituting a collection of information under the Paperwork Reduction Act (44 U.S.C. 3501-3521).

Executive Orders 12866 and 13563

Executive Orders 12866 and 13563 direct agencies to assess the costs and benefits of available regulatory alternatives and, when regulation is necessary, to select regulatory approaches that maximize net benefits (including potential economic, environmental, public health and safety effects, and other advantages; distributive impacts; and equity). Executive Order 13563 (Improving Regulation and Regulatory Review) emphasizes the importance of quantifying both costs and benefits, reducing costs, harmonizing rules, and promoting flexibility. The Office of Information and Regulatory Affairs has determined that this rule is not a significant regulatory action under Executive Order 12866.

VA's impact analysis can be found as a supporting document at http://www.regulations.gov, usually within 48 hours after the rulemaking document is published. Additionally, a copy of the rulemaking and its impact analysis are available on VA's website at http://www.va.gov/orpm by following the link for “VA Regulations Published From FY 2004 Through Fiscal Year to Date.”

Regulatory Flexibility Act

The Secretary hereby certifies that this proposed rule would not have a significant economic impact on a substantial number of small entities as they are defined in the Regulatory Flexibility Act, 5 U.S.C. 601-612. Therefore, pursuant to 5 U.S.C. 605(b), the initial and final regulatory flexibility analysis requirements of 5 U.S.C. 603 and 604 do not apply.

Unfunded Mandates

The Unfunded Mandates Reform Act of 1995 requires, at 2 U.S.C. 1532, that agencies prepare an assessment of anticipated costs and benefits before issuing any rule that may result in the expenditure by State, local, and tribal governments, in the aggregate, or by the private sector, of $100 million or more (adjusted annually for inflation) in any one year. This proposed rule would have no such effect on State, local, and tribal governments, or on the private sector.

Catalog of Federal Domestic Assistance

The Catalog of Federal Domestic Assistance number and title for the program affected by this document is 64.103, Life Insurance for Veterans.

List of Subjects in Part 9

Life insurance, Servicemembers, Veterans.

Signing Authority

Denis McDonough, Secretary of Veterans Affairs, approved this document on March 8, 2021, and authorized the undersigned to sign and submit the document to the Office of the Federal Register for publication electronically as an official document of the Department of Veterans Affairs.

Jeffrey M. Martin,
Assistant Director, Office of Regulation Policy & Management, Office of the Secretary, Department of Veterans Affairs.

[FR Doc. 2021-05852 Filed 3-22-21; 8:45 am]

BILLING CODE 8320-01-P